DEPARTMENT OF TRANSPORTATION

Federal Aviation Administration

Notice of Intent of Waiver With Respect to Land; Brookings Regional Airport

AGENCY: Federal Aviation Administration (FAA), DOT.

ACTION: Notice.

SUMMARY: The FAA is considering a proposal to change 1.44 acres of airport land from aeronautical use to non-aeronautical use and to authorize the sale of airport property located at Brookings Regional Airport, Brookings, South Dakota. The aforementioned land is not needed for aeronautical use. The property is located approximately 6 miles south east of the airport, on the north side of 217th Street between 475th Ave. and 476th Ave., just east of the grove of trees. There was an FAA-owned outer marker located on the subject property, but the outer marker was abandoned when the runway it was serving was relocated and re-aligned. Currently the land is being used for agriculture and does not have an aeronautical use. The land will continue to be used for agriculture.

DATES: Comments must be received on or before October 29, 2021.

ADDRESSES: Documents are available for review by appointment at the FAA Dakota-Minnesota Airports District Office, Mr. Dave Anderson, Deputy Manager, 2301 University Drive, Building 23B, Bismarck, ND, 58504, Telephone: (701) 323-7380/Fax: (701) 323-7399 and Ms. Jackie Lanning, City Engineer, Brookings, SD, 520 3rd. Street, Suite 140, Brookings, SD 57006, (605) 692-6629.

Written comments on the Sponsor's request must be delivered or mailed to: Mr. Dave Anderson, Deputy Manager, Federal Aviation Administration, Dakota-Minnesota Airports District Office, 2301 University Drive, Bld. 23B, Bismarck, ND, Telephone Number: (701) 323-7380/FAX Number: (701) 323-7399.

FOR FURTHER INFORMATION CONTACT: Mr. Dave Anderson, Deputy Manager, Federal Aviation Administration, Dakota-Minnesota Airports District Office, 2301 University Drive, Bld. 23B, Bismarck, ND 58504. Telephone Number: (701) 323-7380/FAX Number: (701) 323-7399.

SUPPLEMENTARY INFORMATION: In accordance with section 47107(h) of Title 49, United States Code, this notice is required to be published in the Federal Register 30 days before modifying the land-use assurance that requires the property to be used for an aeronautical purpose.

The property was purchased in 1991 with an Airport Improvement Program (AIP) grant. It was used for an outer marker for the approach to Runway 12/30 until the runway was relocated and re-aligned. The outer marker was removed after the new runway was constructed. The City of Brookings is proposing to sell the land for agricultural use. An appraised value of the land is $10,944.

The disposition of proceeds from the sale of the airport property will be in accordance with FAA's Policy and Procedures Concerning the Use of Airport Revenue, published in the Federal Register on February 16, 1999 (64 FR 7696).

This notice announces that the FAA is considering the release of the subject airport property at the Brookings Regional Airport, Brookings, South Dakota from federal land covenants, subject to a reservation for continuing right of flight as well as restrictions on the released property as required in FAA Order 5190.6B section 22.16. Approval does not constitute a commitment by the FAA to financially assist in the disposal of the subject airport property nor a determination of eligibility for grant-in-aid funding from the FAA.

The description of the property is S 285′ of W 220′ of SE¼ SW¼ SEC 15-109-49. It consists of 1.44 acres.

Issued in Bismarck, North Dakota, on September 22, 2021.
David P. Anderson,
Acting Manager, Dakota-Minnesota Airports District Office, FAA, Great Lakes Region.

[FR Doc. 2021-21089 Filed 9-28-21; 8:45 am]

BILLING CODE 4910-13-P